SECURITIES AND EXCHANGE COMMISSION

[Release No. 34-55656; File No. SR-NYSE-2007-15]

Self-Regulatory Organizations; New York Stock Exchange LLC; Order Approving Proposed Rule Change Regarding the Amendment of NYSE Rule 300 Relating to Trading Licenses

April 23, 2007.

On February 13, 2007, the New York Stock Exchange LLC (“NYSE” or “Exchange”) filed with the Securities and Exchange Commission (“Commission”), pursuant to Section 19(b)(1) of the Securities Exchange Act of 1934 (“Act”) ¹ and Rule 19b-4 thereunder, ² a proposed rule change to amend NYSE Rule 300 relating to trading licenses to charge a premium of $5,000, for a total annualized rate of $55,000, for those trading licenses purchased after the annual application period. The proposed rule change was published for comment in the Federal Register on March 5, 2007.³ The Commission received no comments regarding the proposal.

¹ 15 U.S.C. 78s(b)(1).

² 17 CFR 240.19b-4.

³ See Securities Exchange Act Release No. 55345 (February 26, 2007), 72 FR 9816.

The Exchange previously required the payment of a 10% premium to encourage participation in its “Dutch” auction method of allocating trading licenses, but recently eliminated this premium when it adopted a fixed $50,000 annual fee for each trading license.⁴ The Exchange believes that the 10% premium for licenses purchased after the annual application period will provide the Exchange with greater predictability regarding the number of trading licenses issued. The Exchange represents that this predictability not only facilitates business planning and administration by member organizations and the NYSE, but also reduces both business and regulatory systems changes to reflect fluctuations in trading licenses issued. The Exchange confirms that, during the December 2006 trading license application period, it notified its members of its intent to submit a rule filing to apply the proposed premium for trading licenses purchased after the application period.⁵ The Exchange also confirms that the premium will only be effective for trading licenses purchased after the approval of this proposed rule change.⁶

⁴ See Securities Exchange Act Release No. 54998 (December 21, 2006), 71 FR 78496 (December 29, 2006) (SR-NYSE-2006-98).

⁵ E-mail communication between Leah Mesfin, Special Counsel, Division of Market Regulation, Commission, and Janet Kissane, Vice President and Associate General Counsel, NYSE, on April 13, 2007.

⁶ Id.

The Commission finds that the proposed rule change is consistent with the Act, and particularly with Section 6(b)(4) ⁷ of the Act, which requires that an exchange have rules that provide for the equitable allocation of reasonable dues, fees, and other charges among its members and issuers and other persons using its facilities.⁸ The Commission believes that the Exchange's proposed 10% premium for trading licenses purchased after the annual application period is reasonable and should help facilitate the Exchange's administration of trading licenses and member organizations' business planning with respect to the issuance of trading licenses.

⁷ 15 U.S.C. 78f(b)(4).

⁸ In approving this proposed rule change, the Commission notes that it has considered the proposed rule's impact on efficiency, competition, and capital formation. See 15 U.S.C. 78c(f).

It is therefore ordered, pursuant to Section 19(b)(2) of the Act,⁹ that the proposed rule change (SR-NYSE-2007-15) be, and hereby is, approved.

⁹ 15 U.S.C. 78s(b)(2).

For the Commission, by the Division of Market Regulation, pursuant to delegated authority.¹⁰
¹⁰ 17 CFR 200.30-3(a)(12); 17 CFR 200.30-3(a)(44).
Florence E. Harmon,
Deputy Secretary.

[FR Doc. E7-8097 Filed 4-26-07; 8:45 am]

BILLING CODE 8010-01-P